DEPARTMENT OF THE INTERIOR

Geological Survey

Technology Transfer Act of 1986

AGENCY: U.S. Geological Survey, Interior.

ACTION: Notice of proposed cooperative research & development agreement (CRADA) negotiations.

SUMMARY: The United States Geological Survey (USGS) is contemplating entering into a Cooperative Research and Development Agreement (CRADA) with Hamilton Operating, Inc., to obtain and characterize various coalbeds from the Eagle Pass Basin, in south Texas.

Inquiries: If any other parties are interested in similar activities with the USGS, please contact Charles E. Barker, USGS Denver Federal Center, Sixth Ave. and Kipling St., Building 20, MS 977, Denver, CO 80225, (303) 236-5797.

SUPPLEMENTARY INFORMATION: This notice is submitted to meet the USGS requirements stipulated in Survey Manual Chapter 500.20.

P. Patrick Leahy,
Associate Director for Geology.

[FR Doc. 01-10817 Filed 4-30-01; 8:45 am]

BILLING CODE 4310-Y7-M